DEPARTMENT OF HEALTH AND HUMAN SERVICES

42 CFR Part 5 and 51c

RIN 0906-AA44

Designation of Medically Underserved Populations and Health Professional Shortage Areas

AGENCY: Department of Health and Human Services (HHS).

ACTION: Notice of proposed rulemaking; extension of public comment period.

SUMMARY: On April 21, 2008, HHS published a 30-day extension to the public comment period and provided clarification on the notice of proposed rulemaking, “Designation of Medically Underserved Populations and Health Professional Shortage Areas” (73 FR 21300). HHS and the Health Resources and Services Administration (HRSA) have received requests for a further extension to the comment period. In consideration of these requests, HHS is extending the comment period an additional 30 days, with a new closing date of June 30, 2008.

DATES: Written comments on this proposed rule must be submitted on or before June 30, 2008. Please refer to SUPPLEMENTARY INFORMATION for additional information.

FOR FURTHER INFORMATION CONTACT: Andy Jordan, 301-594-0197.

SUPPLEMENTARY INFORMATION: During the public comment period, HRSA has encouraged State Primary Care Offices (PCOs) to apply the proposed methodology using their own State and local data to see how well it works in identifying areas in need in their States. HRSA has provided assistance, tools, and data to support States in their efforts and will continue to do so. In order to facilitate a better understanding of the proposed rule, HRSA provided PCOs with a calculator that applies the formulas proposed in the rule to determine designation, with data files, as well as with technical assistance in using the calculator. HRSA has also provided the names of PCOs who, with their expertise with different data sources, may be able to offer some technical assistance to their colleagues.

Dated: May 29, 2008.
Elizabeth M. Duke,
Administrator.

[FR Doc. 08-1314 Filed 5-29-08; 2:55 pm]

BILLING CODE 4152-01-P